OFFICE OF SCIENCE AND TECHNOLOGY POLICY

National Science and Technology Council; Committee on Science; Subcommittee on Research Business Models

ACTION: Notice of an extension of the public comment period.

SUMMARY: The National Science and Technology Council/Committee on Science/Subcommittee on Research Business Models published a document in the Federal Register on August 6, 2003 requesting data and specific examples related to its review of policies, procedures, and plans affecting the business relationship between federal agencies and research performers. The Subcommittee, by undertaking this review, seeks to improve the performance and management of federally sponsored basic and applied scientific and engineering research. Due to technical problems with the e-mail address established to receive these comments, the Subcommittee on Research Business Models is extending the public comment period from September 22, 2003 to October 6, 2003 and encouraging anyone who submitted comments electronically before September 4, 2003 to resubmit their comments.

DATES: Submit comments on or before October 6, 2003.

ADDRESSES: Due to potential delays in OSTP's receipt and processing of mail sent through the U.S. Postal Service, we encourage respondents to submit comments electronically to ensure timely receipt. We cannot guarantee that comments sent via surface mail will be received before the comment closing date.

Electronic comments may be submitted to: nstc_rbm@ostp.eop.gov. Please include in the subject line the words “NSTC Research Business Models Comments.” Please put the full body of your comments in the text of the electronic message and as an attachment. Be certain to include your name, title, organization, postal address, telephone number, and e-mail address in the text of the message.

Comments may be mailed to Michael J. Holland; Office of Science & Technology Policy; 1650 Pennsylvania Ave, NW., Washington, DC 20502. But again, we strongly encourage respondents to submit comments electronically.

FOR FURTHER INFORMATION CONTACT: Michael Holland, Office of Science & Technology Policy; 1650 Pennsylvania Avenue; Washington, DC 20502. Telephone: (202) 456-6130. E-mail: mholland@ostp.eop.gov.

SUPPLEMENTARY INFORMATION: On August 6, 2003 (68 FR 46631), OSTP announced it was seeking data and specific examples relating to policies, procedures, and plans relating to the business relationship between federal agencies and research performers. During the public comment period, we discovered that the e-mail address established to receive the comments was neither accepting electronic submissions nor responding to electronic submissions with a message stating that incoming e-mails were refused.

All problems with the e-mail account have now been resolved. The Subcommittee is extending the deadline for public comment to no later than October 6, 2003. We encourage anyone who submitted comments electronically prior to September 4, 2003 to resubmit their comments. We have received comments submitted electronically after September 4, 2003.

Authority

The National Science and Technology Council (NSTC) was established under Executive Order 12881 on November 23, 1993. The Committee on Science is chartered under the NSTC. The purpose of the Committee on Science is to advise and assist the NSTC, with emphasis on those federally supported efforts that develop new knowledge in the sciences, mathematics, and engineering.

Clifford J. Gabriel,
Deputy to the Associate Director.

[FR Doc. 03-23572 Filed 9-15-03; 8:45 am]

BILLING CODE 3170-01-P